Title 3—

The President

Executive Order 14386 of February 11, 2026

Strengthening United States National Defense With America's Beautiful Clean Coal Power Generation Fleet

Section 1. Purpose. The United States must ensure that our electric grid—upon which military installations, operations, and defense-industrial production depend—remains resilient and reliable, and not reliant on intermittent energy sources. The grid is the foundation of our national defense as well as our economic stability. Any prolonged disruption caused by energy shortages, foreign supply dependencies, or intermittent generation threatens the operational readiness of our Armed Forces and the safety of the American people.

Given our Nation's vast coal resources and the proven reliability of our coal-fired generation fleet in providing continuous, on-demand baseload power, it is imperative that the Department of War (DOW) prioritize the preservation and strategic utilization of coal-based energy assets. Coal generation ensures that military installations, command centers, and defense-industrial bases remain fully powered under all conditions—including natural disasters, or wartime contingencies. Maintaining this capability is a matter of national security, strategic deterrence, and American energy dominance.

Sec. 2. Policy. Pursuant to Executive Order 14261 of April 8, 2025 (Reinvigorating America's Beautiful Clean Coal Industry and Amending Executive Order 14241), and Executive Order 14262 of April 8, 2025 (Strengthening the Reliability and Security of the United States Electric Grid), it is the policy of the United States that coal is essential to our national and economic security, and that our electric grid must use power generation resources that have abundant fuel supplies capable of extended operations to address the national emergency declared pursuant to Executive Order 14156 of January 20, 2025 (Declaring a National Energy Emergency).

Sec. 3. Power Purchase Agreements with Federal Installations. The Secretary of War, in coordination with the Secretary of Energy, shall seek to procure power from the United States coal generation fleet by approving long-term Power Purchase Agreements, or entering into any similar contractual agreements, with coal-fired energy production facilities to serve DOW installations or other mission-critical facilities, with priority given to projects that enhance:

(a) grid reliability and blackout prevention;

(b) on-site fuel security; and

(c) mission assurance for defense and intelligence capabilities.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the DOW.

THE WHITE HOUSE,

February 11, 2026.

[FR Doc. 2026-03156

Filed 2-13-26; 11:15 am]

Billing code 6001-FR-P